DEPARTMENT OF HEALTH AND HUMAN SERVICES

National Institutes of Health

National Cancer Institute; Call for Nominations for the National Cancer Institute Director's Consumer Liaison Group

The National Cancer Institute (NCI) the Federal Government's primary agency for cancer research, is seeking nominations for four (4) new members of the NCI Director's Consumer Liaison Group (DCLG) which will be appointed in July, 2007. The DCLG helps NCI to identify appropriate advocates to serve on its program and policy advisory committees.

The National Cancer Institute (NCI) formed the NCI Director's Consumer Liaison Group (DCLG) in 1998 to advise and make recommendations to the NCI Director, from the perspective and viewpoint of cancer consumer advocates, on a wide variety of issues, programs, and research priorities. The DCLG gives cancer advocates a channel to voice their views and concerns. The DCLG is a 16-member chartered federal advisory committee that works with NCI to ensure that those who experience the burden of cancer also help to shape the course of the NCI's research to eradicate it. Specifically the DCLG members:

• Help develop and establish processes, mechanisms and criteria for identifying appropriate consumer advocates to serve on a variety of program and policy advisory committees responsible for advancing the mission of the NCI.

• Serve as a primary forum for discussion issues and concerns and exchanging viewpoints that are important to the broad development of the NCI programming and research priorities.

• Establish and maintain strong collaborations between the NCI and the cancer advocacy community to reach common goals.

Eligibility Requirements: NCI looks for strong, highly qualified candidates who fulfill the following eligibility criteria:

• Demonstrate involvement in the cancer experience as a cancer survivor, a caregiver to someone who has cancer, or as a professional or volunteer who works with cancer survivors, patients, or caregivers;

• Have a constituency with which she/he regularly communicates on cancer issues and with which she/he is able to serve as a conduit for information, both to and from NCI.

Nominees who meet the minimum eligibility requirements will be evaluated further based on the following qualities:

• Cancer advocacy experience; ability to represent all cancer survivors;

• Possession of strong leadership, communication, and collaboration skills;

• Ability to advise on broad cross cutting cancer issues;

• Ability to facilitate dialogue between NCI and the cancer advocacy community.

DCLG members must be committed to participating in all activities of the DCLG which includes at least two meetings a year in Bethesda, MD.

Characteristics of the DCLG. In addition to the criteria for individual candidates, the following characteristics of the DCLG as a group are balanced to ensure that it reflects the breadth and diversity of the consumer advocacy community:

• Racial and ethnic balance

• A broad mix of cancer sites

• Expertise with advocacy organizations (local, regional, or national)

• Geographical diversity

• Gender

• Age diversity

Selection Process. A call for nominations is disseminated annually to a broad range of groups, including local, regional and national organizations, to encourage nominations of candidates reflecting the diversity sought for the DCLG. Individuals may nominate themselves. All nominees are screened for eligibility, and then evaluated according to the criteria. A list of highly qualified candidates who reflect balance and diversity of representation is forwarded to the Director, NCI who selects the DCLG members. The original members of the DCLG endorsed this process and the criteria developed to evaluate the applications of potential DCLG members, and this process is used to select future members.

To receive a nomination package for the DCLG, send your name, advocacy/voluntary organization affiliation (if any), address, phone number and E-mail information to: Palladian Partners, Inc., Attn: DCLG 2007 Selection Process, 1010 Wayne Avenue, Suite 1200, Silver Spring, MD 20910, Phone: (301) 650-8660, Fax: (301) 650-8676.

Nominations must be postmarked by March 30, 2007.

Dated: January 23, 2007.
Anna Snouffer,
Acting Director, Office of Federal Advisory Committee Policy, National Institutes of Health.

[FR Doc. 07-400 Filed 1-30-07; 8:45 am]

BILLING CODE 4140-01-M